DEPARTMENT OF ENERGY

Federal Energy Regulatory Commission

Order on Intent To Revoke Market-Based Rate Authority; Data Collection for Analytics and Surveillance and Market-Based Rate Purposes

| Docket Nos. RM16-17-001
3 Phases Renewables Inc | ER16-775-000
3C Solar LLC | ER11-2649-000
3Degrees Group, Inc | ER10-269-000
3PR Trading, Inc | ER20-1477-000
ABC Energy, LLC | ER13-2260-000
ADG Group Inc | ER17-1151-000
American Illuminating Company, LLC | ER12-2600-000
Anahau Energy, LLC | ER13-415-000
Apple Group | ER07-1287-001
Archer Energy, LLC | ER17-1594-002
Ashley Energy LLC | ER17-923-001
Backyard Farms Energy LLC | ER09-1689-000
Baltimore Power Company LLC | ER15-2693-002
Berry Petroleum Company, LLC | ER12-2233-000
BioUrja Power, LLC | ER16-371-000
BITH Energy, Inc | ER13-48-000
BITH Solar 1, LLC | ER13-29-000
Blue Cube Operations LLC | ER15-1687-001
Bolt Energy, LLC | ER19-1826-001
Brantley Farm Solar, LLC | ER18-1977-001
Bridgeport Fuel Cell, LLC | ER13-1403-000
Buckleberry Solar, LLC | ER18-2217-000
Burgess Capital LLC | ER15-2541-000
Capacity Markets Partners, LLC | ER14-407-001
Cargill Power Markets, LLC | ER97-4273-000
Carson Hybrid Energy Storage LLC | ER19-288-000
Central Hudson Gas & Electric Corporation | ER97-2872-000
Centre Lane Trading Ltd | ER10-636-000
Choctaw Generation Limited Partnership | ER98-3774-000
Cirrus Wind 1, LLC | ER13-357-001
Clear Power LLC | ER20-2654-000
Clearview Electric, Inc | ER17-808-001
Conch Energy Trading, LLC | ER12-1472-000
Consolidated Power Co., LLC | ER14-1858-000
Covanta Maine, LLC | ER09-560-000
Current Power & Gas Inc | ER16-722-000
Degrees3 Transportation Solutions, LLC | ER21-251-001
Dichotomy Power Maine, LLC | ER21-2535-000
Dillon Power, LLC | ER15-1810-000
Domtar A.W. LLC | ER11-2021-001
Domtar Paper Company, LLC | ER11-2020-000
EBRFUEL, LLC | ER13-797-000
El Paso Marketing Company, L.L.C | ER95-428-000
Electron Hydro, LLC | ER13-1646-001
Elektrisola, Inc | ER10-2891-000
Elevation Energy Group, LLC | ER17-21-000
Energy Cooperative of New York, Inc | ER99-3411-000
Energy Exchange Direct, LLC | ER08-425-000
Energy Exchange International, LLC | ER11-2730-000
EnPowered | ER18-155-000
Entergy Arkansas, Inc., Entergy Mississippi, Inc., and Entergy New Orleans, Inc | ER91-569-000
EONY Generation Limited | ER00-136-000
ExxonMobil Baton Rouge Complex | ER06-771-000
ExxonMobil Beaumont Complex | ER06-772-000
ExxonMobil LaBarge Shute Creek Treating | ER06-773-000
Facility | ER09-1075-000
Falcon Energy, LLC | ER07-1247-002
FC Energy Services Company, LLC | ER05-1079-000
FOREST INVESTMENT GROUP, LLC | ER18-2194-001
Fox Creek Farm Solar, LLC | ER11-3615-000
Fred Meyer Stores, Inc | ER11-4536-000
Full Circle Renewables, LLC | ER10-2954-000
Garland Power Company | ER11-2825-000
GBC Metals LLC | ER20-2087-000
Gichi Noodin Wind Farm, LLC | ER12-346-000
Global Energy, LLC | ER11-4672-000
Griffiss Utility Services Corporation | ER12-2203-001
GUSC Energy Inc | ER10-2890-000
Hammond Belgrade Energy, LLC | ER03-833-000
Hawkeye Energy Greenport, LLC | ER12-2405-001
Helvetia Solar, LLC | ER12-795-001
High Liner Foods Incorporated | ER09-712-000
High Lonesome Mesa, LLC | ER12-1613-001
Hill Energy Resource & Services, LLC | ER11-3053-001
Holcim (US) Inc | ER14-2956-004
Hoopeston Wind, LLC | ER11-4489-000
ICC Energy Corporation | ER06-1007-000
IEP Power Marketing LLC | ER18-1289-000
Industrial Assets, Inc | ER19-117-001
Innovative Solar 54, LLC | ER19-118-001
Innovative Solar 67, LLC | ER11-4050-000
KEPCO Solar of Alamosa LLC | ER15-1308-000
Kingfisher Wind, LLC | ER15-1609-000
Kiyoshi Technologies, LLC | ER12-1524-000
Kleantricity, Inc | ER09-107-000
KODA Energy, LLC | ER08-848-000
Lazarus Energy Holdings, LLC | ER16-1788-002
LE Energy, LLC | ER21-1768-000
Light Power & Gas LLC | ER11-3589-000
Long Island Solar Farm, LLC | ER15-2470-000
Longreach Energy, LLC | ER05-744-000
Major Lending, LLC | ER18-1549-000
Manifold Energy Inc | ER19-610-000
Marengo Battery Storage, LLC | ER08-23-001
Massie Power LLC | ER13-1298-001
Mega Energy Holdings LLC | ER16-1254-002
MMP SCO, LLC | ER11-4603-000
Monterey Consulting Associates, Inc | ER15-612-000
Moore Energy, LLC | ER13-1249-002
Myotis Power Marketing LLC | ER06-1055-000
Nevada Gold Energy LLC | ER10-2754-000
New England Wire Technologies, Corp | ER06-1286-000
New Hope Power Partnership | ER05-1225-000
New York Industrial Energy Buyers, LLC | ER10-904-000
NFI Solar, LLC | ER03-293-000
North Branch Resources, LLC | ER13-1665-000
Novo BioPower, LLC | ER19-302-001
NTE Southeast Electric Company, LLC | ER18-3-000
Nylon Corporation of America | ER03-821-000
One Nation Energy Solutions, LLC | ER19-178-001
PACE RENEWABLE ENERGY 1 LLC | ER12-1603-001
PGPV, LLC | ER18-296-000
Phibro Americas LLC | ER13-1135-001
Piedmont Energy Fund, LP | ER11-2168-000
Planet Energy (Maryland) Corp | ER11-2179-000
Planet Energy (New York) Corp | ER11-2167-000
Planet Energy (Pennsylvania) Corp | ER11-2166-000
Planet Energy (USA) Corp | ER10-812-000
Power Choice Inc | ER19-1405-000
Precept Power LLC | ER17-204-001
Quantum Power Corp | ER08-631-000
Raider Dog LLC | ER16-895-002
RDAF Energy Solutions, LLC | ER01-3109-000
Renaissance Power, L.L.C | ER14-1135-000
Renewable Power Direct, LLC | ER12-1751-000
Renewable Power Strategies, LLC | ER09-1739-000
ResCom Energy LLC | ER14-166-000
Rigby Energy Resources, LP | ER14-2013-000
RJUMR ENERGY PARTNERS CORP | ER12-1244-001
RLD Resources, LLC | ER01-2830-000
Roseburg Forest Products | ER19-1240-000
Sage Solar I LLC | ER19-1241-000
Sage Solar II LLC | ER19-1242-000
Sage Solar III LLC | ER10-2750-000
Saint Anselm College | ER15-359-001
Samchully Power & Utilities 1 LLC | ER11-4453-000
Santanna Natural Gas Corporation | ER11-3187-001
SBR Energy, LLC | ER18-1548-000
Seguro Energy Partners, LLC | ER10-2951-000
Shipyard Energy, LLC | ER13-733-000
Silver Bear Power, LLC | ER16-904-001
Smith Creek Hydro, LLC | ER13-698-000
Southard Energy Partners, LLC | ER11-3186-000
Southern California Telephone Company | ER06-634-000
Spruance Genco, LLC | ER95-362-000
Stand Energy Corporation | ER13-113-002
Sunbury Energy, LLC | ER11-2354-000
Sustainable Star | ER03-1150-000
Texzon Utilities, Ltd | ER16-1202-001
The Energy Group of America, Inc | ER99-3571-000
The Legacy Energy Group, LLC | ER11-4604-000
Thicksten Grimm Burgum, Inc | ER20-2618-000
Thordin ApS | ER14-1767-000
Titan Gas and Power | ER14-2597-001
Town of Hanover | ER13-1107-000
Trane Grid Services LLC | ER11-2962-001
Tropicana Manufacturing Company Inc | ER11-3724-000
TrueLight Commodities, LLC | ER11-3723-000
TrueLight Energy, LLC | ER02-973-000
UBS AG | ER15-1630-001
US Borax, Inc | ER16-1610-001
V3 Commodities Group, LLC | ER11-4706-001
Viridity Energy, Inc | ER16-2307-001
Vista Energy Marketing, L.P | ER04-937-000
Volunteer Energy Services, Inc | ER21-908-000
Western Aeon Energy Trading LLC | ER11-3263-000
Western Reserve Energy Services, LLC | ER04-262-000
White Pine Electric Power L.L.C | ER09-750-000
Windy Flats Partners, LLC | ER06-1273-000
Wolverine Holdings, L.P | ER10-2345-000
Woodland Pulp LLC | ER18-624-000
Woomera Energy, LLC | ER18-2031-000
Z&Y Energy Trading LLC | ER15-820-001
Zone One Energy, LLC

1. Section 205 of the Federal Power Act (FPA), 16 U.S.C. 824d, and 18 CFR part 35 (2021), require, among other things, that all rates, terms, and conditions for jurisdictional services be filed with the Commission. In Order No. 697 and its progeny,¹ the Commission established certain requirements that sellers ² must comply with in order to obtain and retain market-based rate authority.³

¹ Mkt.-Based Rates for Wholesale Sales of Elec. Energy, Capacity & Ancillary Servs. by Pub. Utils., Order No. 697, 119 FERC ¶ 61,295 clarified, 121 FERC ¶ 61,260 (2007), order on reh'g, Order No. 697-A, 123 FERC ¶ 61,055, clarified, 124 FERC ¶ 61,055, order on reh'g, Order No. 697-B, 125 FERC ¶ 61,326 (2008), order on reh'g, Order No. 697-C, 127 FERC ¶ 61,284 (2009), order on reh'g, Order No. 697-D, 130 FERC ¶ 61,206 (2010), aff'd sub nom. Mont. Consumer Counsel v. FERC, 659 F.3d 910 (9th Cir. 2011).

² A “seller” is defined as any person that has authorization to or seeks authorization to engage in sales for resale of electric energy, capacity or ancillary services at market-based rates under section 205 of the FPA. 18 CFR 35.36(a)(1); 16 U.S.C. 824d. Each seller is a public utility under section 205 of the FPA. 16 U.S.C. 824.

³ Order No. 697, 119 FERC ¶ 61,295 at n. 258.

2. In Order No. 860,⁴ the Commission revised certain aspects of the substance and format of the ownership information sellers must submit in order to obtain or retain market-based rate authority. Specifically, Order No. 860 requires that, as part of its market-based rate application or baseline submission, a seller must identify its ultimate upstream affiliate(s) through a new relational database.⁵

⁴ Data Collection for Analytics & Surveillance and Mkt.-Based Rate Purposes, Order No. 860, 168 FERC ¶ 61,039 (2019), order on reh'g, Order No. 860-A, 170 FERC ¶ 61,129 (2020).

⁵ Order No. 860, 168 FERC ¶ 61,039 at P 121.

3. In accordance with Order No. 860, as modified by Order No. 860-A, the Order Adopting Revisions to Information Collection,⁶ and the Notice of Extension of Time,⁷ each seller with a market-based rate tariff on file with the Commission was required to make a baseline submission to the market-based rate relational database by February 1, 2022.⁸ Commission staff's review of the baseline submissions to the market-based rate relational database indicates that the sellers with market-based rate authorization listed in the caption of this order failed to file their baseline submissions. This order notifies these sellers that their market-based rate authorizations will be revoked unless they comply with the Commission's requirements within 15 days of the date of issuance of this order.⁹

⁶ Data Collection for Analytics & Surveillance and Mkt.-Based Rate Purposes, 176 FERC ¶ 61,109 (2021) (Order Adopting Revisions to Information Collection).

⁷ Data Collection for Analytics and Surveillance and Mkt.-Based Rate Purposes, Notice of Extension of Time, Docket No. RM16-17-000 (Oct. 22, 2021).

⁸ A baseline submission consists of “market-based rate information,” which includes (a) seller category status for each region in which the seller has market-based rate authority, (b) each market in which the seller is authorized to sell ancillary services at market-based rates, (c) mitigation, if any, and (d) whether the seller has limited the regions in which it has market-based rate authority. A baseline submission also consists of “market-based rate ownership information,” which includes ultimate upstream affiliates; and affiliate owners with franchised service areas, market-based rate authority, or that directly own or control generation; transmission, intrastate natural gas transportation, storage or distribution facilities, physical coal supply sources or ownership of or control over who may access transportation of coal supplies, and asset appendix information. Order No. 860, 168 FERC ¶ 61,039 at P 185.

⁹ Commission staff contacted or attempted to contact the sellers to remind them of their regulatory obligations. Despite these reminders, however, the sellers listed in the caption of this order have not met these obligations.

4. To comply with the Commission's requirements, the above-captioned sellers must file their baseline submissions to the market-based rate relational database consistent with the procedures set forth in Order Nos. 860, 860-A, and the Order Adopting Revisions to Information Collection.

5. In the event any of the above-captioned sellers have already submitted their baseline submissions in compliance with the Commission's requirements, their inclusion herein is inadvertent. Such sellers are directed to make a filing with the Commission, within 15 days of the date of issuance of this order, to identify themselves and provide details about their prior submissions to establish that they complied with the Commission's market-based rate relational database filing requirements.

6. If any of the above-captioned sellers do not wish to continue having market-based rate authority, they may file a notice of cancellation of their market-based rate tariffs with the Commission pursuant to section 205 of the FPA.

The Commission orders:

(A) Within 15 days of the date of issuance of this order, each seller listed in the caption of this order shall file with the Commission its delinquent baseline submission to the market-based rate relational database. If a seller subject to this order fails to make the filings required in this order, the Commission intends to revoke that seller's market-based rate authorization and intends to terminate its electric market-based rate tariff. The Secretary is hereby directed, upon expiration of the filing deadline in this order, to promptly issue a notice, effective on the date of issuance, listing the sellers whose tariffs have been revoked for failure to comply with the requirements of this order and the Commission's market-based rate relational database requirements.

(B) The Secretary is hereby directed to publish this order in the Federal Register.

Issued: September 22, 2022.
Debbie-Anne A. Reese,
Deputy Secretary.

[FR Doc. 2022-21004 Filed 9-27-22; 8:45 am]

BILLING CODE 6717-01-P